DEPARTMENT OF THE INTERIOR

National Park Service

[NPS-WASO-NAGPRA-NPS0025769; PPWOCRADN0-PCU00RP14.R50000]

Notice of Inventory Completion: St. Joseph Museums, Inc., St. Joseph, MO

AGENCY: National Park Service, Interior.

ACTION: Notice.

SUMMARY: The St. Joseph Museum has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the St. Joseph Museum. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the St. Joseph Museum at the address in this notice by August 13, 2018.

ADDRESSES: Trevor Tutt, Collections Manager, St. Joseph Museums, Inc., St. Joseph, MO 64506, telephone (816) 232-8471, email trevor@stjosephmuseum.org.

SUPPLEMENTARY INFORMATION: Notice is here given in accordance with the Native American Graves Protection and Repatriation Act (NAGPRA), 25 U.S.C. 3003, of the completion of an inventory of human remains under the control of the St. Joseph Museums, Inc., St. Joseph, MO. The human remains were removed from Kake, AK.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the St. Joseph Museum professional staff in consultation with representatives of the Organized Village of Kake.

History and Description of the Remains

Prior to 1910, human remains representing, at minimum, one individual were removed from Kake, AK. Subsequently, William H. Case transferred these human remains to Harry L. George, who, in turn donated them to the St. Joseph Museum. The human remains—a jaw bone—belonged to a Medicine Man who had died and was buried in a grave house, in accordance with Native custom. When a sickness, attributed to evil spirits, fell upon the village the Medicine Man's bones were thrown in salt water. A white missionary from Kake was said to have retrieved the jaw bone from the Pacific Ocean several years later, accounting for the barnacles found on the teeth. As Russian missionaries first arrived in Kake in the 1790s, the retrieval of the jaw by a white missionary would have occurred between the 1790s and early 1910, when Case photographed it and sent the images to George. George had purchased the jawbone along with a series of ivory buttons and a jade axe head for $30.00 no later than July 14, 1911.

The Harry George collection was originally meant to be donated to the St. Joseph Museum prior to George's death in 1923, but due to lack of storage space, it was on loan to the Missouri State Museum in Jefferson City until it transferred to the St. Joseph Museum in October 1944. The bulk of the collection was stored in the basement of the St. Joseph City Hall while select items were displayed at the AJ August House, the second location of the St. Joseph Museum. After the St. Joseph Museum received the Wyeth-Tootle Mansion as their main display site in 1946, the vast majority of the items went on display there. That same year, funds were provided for the St. Joseph Museum to purchase the George Collection outright. The human remains in the collection have remained in storage since at least the 1970s. When the St. Joseph Museum, now the St. Joseph Museums, Inc., moved to the Glore Psychiatric Museum in 2004, much of the George Collection was moved as well, including the jaw bone. In 2017, it, and other human remains were returned to storage at the Wyeth-Tootle Mansion for processing under NAGPRA.

Research into the Harry George Collection, specifically the William H. Case photographs, began around 2017. Zachary Jones, Archivist at the Alaska State Archives, assisted in identifying objects in the collection and initiated consultation with the Organized Village of Kake. Frank Hughes, the NAGPRA Coordinator for the Organized Village of Kake, contacted Trevor Tutt, the Collections Manager for the St. Joseph Museums, Inc., and began correspondence related to items of cultural patrimony and remains related to Kake, Alaska. Through correspondence, the oral tradition of human remains being thrown in salt water in retaliation against a sickness in the village was confirmed. As research indicates that missionary activity in Kake peaked during the 1890s-1910 period, the jaw might have been removed during that two decade span.

Determinations Made by the St. Joseph Museum

Officials of the St. Joseph Museum have determined that:

• Pursuant to 25 U.S.C. 3001(9), the human remains described in this notice represent the physical remains of one individual of Native American ancestry.

• Pursuant to 25 U.S.C. 3001(2), there is a relationship of shared group identity that can be reasonably traced between the Native American human remains and the Organized Village of Kake.

Additional Requestors and Disposition

Lineal descendants or representatives of any Indian Tribe or Native Hawaiian organization not identified in this notice that wish to request transfer of control of these human remains should submit a written request with information in support of the request to Trevor Tutt, Collections Manager, St. Joseph Museums, Inc., St. Joseph, MO 64506, telephone (816) 232-8471, email trevor@stjosephmuseum.org, by August 13, 2018. After that date, if no additional requestors have come forward, transfer of control of the human remains to the Organized Village of Kake may proceed.

The St. Joseph Museum is responsible for notifying the Organized Village of Kake that this notice has been published.

Dated: June 12, 2018.
Melanie O'Brien,
Manager, National NAGPRA Program.

[FR Doc. 2018-14901 Filed 7-11-18; 8:45 am]

BILLING CODE 4312-52-P